ENVIRONMENTAL PROTECTION AGENCY

[EPA-HQ-OPP-2006-0955-FRL-8119-1]

Rodenticides; Proposed Risk Mitigation Decision; Extension of Comment Period

AGENCY: Environmental Protection Agency (EPA).

ACTION: Notice; extension of comment period.

SUMMARY: EPA issued a notice in the Federal Register of January 17, 2007, concerning the availability of the Proposed Risk Mitigation Decision for nine rodenticides. The nine rodenticides covered by the Proposed Risk Mitigation Decision are brodifacoum, bromadiolone, difethialone, chlorophacinone, diphacinone, warfarin, zinc phosphide, bromethalin, and cholecalciferol. This document is extending the comment period for 60 days, from March 19, 2007, to May 18, 2007.

DATES: Comments, identified by docket identification (ID) number EPA-HQ-OPP-2006-0955, must be received on or before May 18, 2007.

ADDRESSES: Follow the detailed instructions as provided under ADDRESSES in the Federal Register document of January 17, 2007.

FOR FURTHER INFORMATION CONTACT: Kelly Sherman, Special Review and Reregistration Division (7508P), Office of Pesticide Programs, Environmental Protection Agency, 1200 Pennsylvania Ave., NW., Washington, DC 20460-0001; telephone number: (703) 305-8401; e-mail address: sherman.kelly@epa.gov or Laura Parsons, Special Review and Reregistration Division (7508P), Office of Pesticide Programs, Environmental Protection Agency, 1200 Pennsylvania Ave., NW., Washington, DC 20460-0001; telephone number: (703) 305-5776; e-mail address: parsons.laura@epa.gov.

SUPPLEMENTARY INFORMATION:

I. General Information

A. Does this Action Apply to Me?

The Agency included in the notice a list of those who may be potentially affected by this action. If you have questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

C. How and to Whom Do I Submit Comments?

To submit comments, or access the official public docket, please follow the detailed instructions as provided in SUPPLEMENTARY INFORMATION of the January 17, 2007, Federal Register document. If you have questions, consult the person listed under FOR FURTHER INFORMATION CONTACT.

II. What Action is EPA Taking?

This document extends the public comment period established in the Federal Register of January 17, 2007 (72 FR 1992) (FRL-8104-7). In that document, EPA announced the availability of the availability of the Proposed Risk Mitigation Decision for nine rodenticides. The nine rodenticides covered by the Proposed Risk Mitigation Decision are brodifacoum, bromadiolone, difethialone, chlorophacinone, diphacinone, warfarin, zinc phosphide, bromethalin, and cholecalciferol. EPA is hereby extending the comment period, which was set to end on March 19, 2007, to May 18, 2007.

III. What is the Agency's Authority for Taking this Action?

Section 4(g)(2) of FIFRA, as amended, directs that, after submission of all data concerning a pesticide active ingredient, the Administrator shall determine whether pesticides containing such active ingredient are eligible for reregistration. Further provisions are made to allow a public comment period. However, the Administrator may extend the comment period, if additional time for comment is requested. In this case, several stakeholders have requested additional time to develop comments due to the complexity of the issues raised by the proposed mitigation decision. In addition, the Rodenticide Registrants Task Force (RRTF) has requested additional time to develop comments using information recently placed in the docket and provided to the RRTF.

List of Subjects

Environmental protection, Pesticides and Pests.

Dated: March 2, 2007.
Debra Edwards,
Director, Special Review and Reregistration, Division, Office of Pesticide Programs]

[FR Doc. E7-4648 Filed 3-13-07; 8:45 am]

BILLING CODE 6560-50-S